DEPARTMENT OF AGRICULTURE

Natural Resources Conservation Service

Doña Ana Arroyo Watershed, Doña Ana County, NM

AGENCY: Natural Resources Conservation Service, USDA.

ACTION: Notice of a finding of no significant impact.

SUMMARY: Pursuant to Section 102(2)(c) of the National Environmental Policy Act of 1969; the Council on Environmental Quality Regulations (40 CFR Part 1500); and the Natural Resources Conservation Service Rules (7 CFR Part 650); the Natural Resources Conservation Service, U.S. Department of Agriculture, gives notice that an environmental impact statement is not being prepared for the rehabilitation of two dams (South and North Fork dams) and their disposal system in the Doña Ana Arroyo Watershed.

FOR FURTHER INFORMATION CONTACT: Rosendo Treviño III; State Conservationist; Natural Resources Conservation Service; 6200 Jefferson, NE.; Albuquerque, NM 87109-3734; telephone 505-761-4400.

SUPPLEMENTARY INFORMATION: The environmental assessment (EA) of this Federally assisted action indicates that the project will not cause significant local, regional, or national effects on the human environment. As a result of these findings, Rosendo Treviño III, State Conservationist, has determined that the preparation and review of an environmental impact statement are not needed for this project.

The project purpose is flood damage prevention. The action includes the rehabilitation of two floodwater retaring dames and their common disposal system. The Notice of a Finding of No Significant Impact (FONSI) has been forwarded to the Environmental Protection Agency; various Federal, state, and local agencies; and interested parties. A limited number of copies of the FONSI are available to fill single copy requests at the above address. Basic data developed during the EA are on file and may be reviewed by contacting Rosendo Treviño III. No administrative action on implementation of the proposed action will be taken until 30 days after the date of publication in the Federal Register.

Dated: February 20, 2004.
Rosendo Treviño,
State Conservationist.

[FR Doc. 04-4460 Filed 2-27-04; 8:45 am]

BILLING CODE 3410-16-P